UNIFIED CARRIER REGISTRATION PLAN

Sunshine Act Meetings

TIME AND DATE: December 8, 2023, 9:00 a.m. to 3:00 p.m., Central time.

PLACE: This meeting will take place at the Hyatt Place San Antonio/Riverwalk Hotel, 601 S St. Mary's Street, San Antonio, TX 78205. The meeting will also be accessible via conference call and via Zoom Meeting and Screenshare. Any interested person may call (i) 1-929-205-6099 (U.S. Toll) or 1-669-900-6833 (U.S. Toll), Meeting ID: 934 8621 6961, to listen and participate in this meeting. The website to participate via Zoom Meeting and Screenshare is https://kellen.zoom.us/meeting/register/tJcpf--qrz0jHNWJD7And5d9JryuJmFkf-nH.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

➢ Subcommittee action only to be taken in designated areas on agenda

IV. Review and Approval of Subcommittee Minutes From the March 2, 2023 Meeting—UCR Enforcement Subcommittee Chair

For Discussion and Possible Subcommittee Action

Draft minutes from the March 2, 2023 Subcommittee meeting via teleconference will be reviewed. The Subcommittee will consider action to approve.

V. Discussion on Awarding of Annual UCR Enforcement Awards and Award Criteria—UCR Enforcement Subcommittee Chair, UCR Enforcement Subcommittee Vice-Chair

For Discussion and Possible Subcommittee Action

The Subcommittee Chair will lead a discussion on the prospect of awarding annual UCR Enforcement Awards. Award criteria could include best enforcement efficiency rate, most violations issued overall, and an annual award to the inspector who issues the most UCR violations. The Subcommittee may take action to recommend the implementation of an awards program to the Board of Directors.

VI. Discussion of Biannual Enforcement Blitzes—UCR Enforcement Subcommittee Chair and UCR Enforcement Subcommittee Vice-Chair

For Discussion and Possible Subcommittee Action

The Subcommittee Vice-Chair will lead a discussion concerning the possible implementation of a biannual enforcement blitz. The blitz would target UCR enforcement in both participating and non-participating states, with a weeklong voluntary blitz to occur at the beginning of each registration year. Those states/agencies who issue UCR violations but do not upload inspections to the NRS would be provided forms to submit enforcement data. The subcommittee may take action to recommend an enforcement blitz to the Board of Directors.

VII. Discussion of Roadside Enforcement for Carriers Who Are Under-Registered—UCR Enforcement Subcommittee Chair, UCR Enforcement Subcommittee Vice-Chair, and Representatives From Seikosoft

The Subcommittee Vice-Chair will lead a discussion on the possibility of roadside enforcement for motor carriers who are identified as under-registered.

VIII. Enforcement Training PowerPoint Development—UCR Enforcement Subcommittee Chair, UCR Enforcement Subcommittee Vice-Chair

The Subcommittee Chair will provide an update on the progress of the creation of the enforcement training PowerPoint.

IX. Other Business—UCR Enforcement Subcommittee Chair

The Subcommittee Chair will call for any other items Subcommittee members would like to discuss.

X. Adjournment—UCR Enforcement Subcommittee Chair

The Subcommittee Chair will adjourn the meeting.

The agenda will be available no later than 5:00 p.m. Eastern time, November 30, 2023 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-27000 Filed 12-5-23; 4:15 pm]

BILLING CODE 4910-YL-P